DEPARTMENT OF COMMERCE

U.S. Census Bureau

Proposed Information Collection; Comment Request: National Survey of Fishing, Hunting, and Wildlife-Associated Recreation (FHWAR) Pre-Screener Test

AGENCY: U.S. Census Bureau, Commerce.

ACTION: Notice.

SUMMARY: The Department of Commerce, as part of its continuing effort to reduce paperwork and respondent burden, invites the general public and other Federal agencies to take this opportunity to comment on proposed and/or continuing information collections, as required by the Paperwork Reduction Act of 1995, Public Law 104-13 (44 U.S.C. 3506(c)(2)(A)).

DATES: To ensure consideration, written comments must be submitted on or before May 14, 2013.

ADDRESSES: Direct all written comments to Jennifer Jessup, Departmental Paperwork Clearance Officer, Department of Commerce, Room 6616, 14th and Constitution Avenue NW., Washington, DC 20230 (or via the Internet at jjessup@doc.gov).

FOR FURTHER INFORMATION CONTACT: Requests for additional information or copies of the information collection instrument(s) and instructions should be directed to Denise Pepe via phone on 301-763-3785, or via mail at the U.S. Census Bureau, 4600 Silver Hill Road, Room 7H113, Washington, DC 20233-8400 or via email at denise.p.pepe@census.gov.

SUPPLEMENTARY INFORMATION:

I. Abstract

The U.S. Census Bureau conducts the 2011 National Survey of Fishing, Hunting, and Wildlife-Associated Recreation (FHWAR) for the U.S. Fish and Wildlife Service. We completed three waves of data collection for the 2011 FHWAR under OMB clearance number 1018-0088 in May 2012. The FHWAR data assist Federal and state agencies in administering the Sport Fish and Wildlife Restoration grant programs and provide up-to-date information on the uses and demands for wildlife-related recreation resources, trends in uses of those resources, and a basis for developing and evaluating programs and projects to meet existing and future needs.

Historically, the Census Bureau has conducted the FHWAR by computer-assisted personal interviewing (CAPI), which yielded high response rates. In 2011, because of limited funding, we modified our data collection methodology from mostly CAPI to approximately 90% computer-assisted telephone interviewing (CATI) and 10% CAPI. In order to obtain phone numbers for the CATI, we conducted a telephone research operation and match operation. Many phone numbers collected during the research and match operations did not reach the sample addresses in the Wave 1 CATI causing response rates to plummet. CATI response rates improved in Wave 2 and Wave 3 because we obtained phone numbers directly from the respondents in Wave 1.

In preparation for the 2016 FHWAR, the Census Bureau proposes a two-part test to determine new methodologies for collecting phone numbers in an effort to improve response rates throughout the three waves of interviewing. The first part of the test is a mail operation that will ask household respondents to complete a pre-screener survey by paper questionnaire or by Internet for the purpose of collecting a household roster, obtaining household telephone numbers, verifying the sample address, and obtaining general household-level information on hunting, fishing, and wildlife watching activities. The mail operation will include three panels. The first panel will receive a letter and a self-administered paper pre-screener questionnaire. The letter will ask a household member to complete the paper questionnaire and to return it by mail to the Census Bureau. The second panel will receive a letter with an Internet invitation for a household member to complete the pre-screener on the Internet. The third panel will receive a letter, paper questionnaire, and information on how to complete an interview by Internet. In this panel, the household member is given a choice for conducting the pre-screener by paper or by Internet. We estimate that both the paper and Internet pre-screener will take approximately 5 minutes to complete. If a household does not complete the pre-screener in the requested time frame, we will mail up to two additional packages (that include the same materials as the initial mailing) requesting the household's participation.

The sample size for each of the panels will be 5,000 sample households. We expect fifty-percent or 7,500 households to respond by either mail or Internet.

The second part of the test includes delivering the completed pre-screener data to the Census Bureau's Jeffersonville Contact Center who will conduct a telephone operation using a paper questionnaire to verify that the phone numbers collected from the mail and Internet pre-screener either reached, or did not reach, the sample addresses. This telephone interview will last approximately 2 minutes.

Upon completion of the telephone operation, the Census Bureau will analyze the accuracy of the telephone numbers collected from the paper and the Internet pre-screeners to determine if either of these methods could benefit the 2016 FHWAR. If either mode improves our success in obtaining accurate telephone numbers for sample households, we may improve contact and response rates and reduce the costs for conducting the 2016 FHWAR. A mail pre-screener operation is less expensive than the telephone research operation we conducted for the 2011 FHWAR, and we could potentially conduct more interviews in CATI with accurate phone numbers provided by household members

Additionally, use of a pre-screener will identify households that do not participate in wildlife-related activities more efficiently than the existing data collection methodology which requires a longer screener interview. This results in lower interviewing costs and reduced respondent burden.

II. Method of Collection

Part one of the test will be a mail operation with one panel receiving a paper questionnaire. The second panel will receive an Internet invite to complete the pre-screener by Internet. The third panel will have the option of conducting the pre-screener by paper or Internet. This operation will take about four weeks to conduct.

Part two of the test will be a telephone operation with data collected by paper questionnaire. This operation will take about 3 weeks.

III. Data

OMB Control Number: None.

Form Number: To be determined.

Type of Review: Regular submission.

Affected Public: Individuals.

Estimated Number of Respondents: 7,500.

Estimated Time per Response:

(Part 1) Pre-screener mail operation—5 minutes.

(Part 2) Telephone Follow-up Operation—2 minutes.

Estimated Total Annual Burden Hours: 875 hours.

Estimated Total Annual Cost: No cost to the respondent.

Respondent's Obligation: Voluntary.

Legal Authority: Title 13 U.S.C. Section 8.

IV. Request for Comments

Comments are invited on: (a) Whether the proposed collection of information is necessary for the proper performance of the functions of the agency, including whether the information shall have practical utility; (b) the accuracy of the agency's estimate of the burden (including hours and cost) of the proposed collection of information; (c) ways to enhance the quality, utility, and clarity of the information to be collected; and (d) ways to minimize the burden of the collection of information on respondents, including through the use of automated collection techniques or other forms of information technology.

Comments submitted in response to this notice will be summarized and/or included in the request for OMB approval of this information collection; they also will become a matter of public record.

Dated: March 12, 2013.
Glenna Mickelson,
Management Analyst, Office of the Chief Information Officer.

[FR Doc. 2013-06021 Filed 3-14-13; 8:45 am]

BILLING CODE 3510-07-P